DEPARTMENT OF ENERGY

Federal Energy Regulatory Commission

[Docket No. RP04-327-000]

ANR Pipeline Company; Notice of Tariff Filing

June 14, 2004.

Take notice that on June 8, 2004, ANR Pipeline Company (ANR), tendered for filing as part of its FERC Gas Tariff, Second Revised Volume No, the following tariff sheets, with a proposed effective date of July 8, 2004:

Fifteenth Revised Sheet No. 2

Seventh Revised Sheet No. 102

Sixth Revised Sheet No. 103

Third Revised Sheet No. 162.01

Tenth Revised Sheet No. 191

Third Revised Sheet No. 191A

Second Revised Sheet No. 191B

Fourth Revised Sheet No. 193

Third Revised Sheet No. 194

Second Revised Sheet No. 195

First Revised Sheet No. 196

First Revised Sheet No. 197

ANR states that it is tendering the revised tariff sheets to revise ANR's FERC Gas Tariff to make generally available to its customers three new options in the General Terms and Conditions of its tariff. ANR notes that two of the options would give customers the opportunity to negotiate additional types of discounted rates—one based on a published index price or formula and the other based on agreement to certain operational considerations that would allow ANR to provide incremental capacity for sale and the third option would allow ANR to satisfy a customers request for service where previously ANR would have had to deny the request due to prevailing operating conditions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eFiling link.

Magalie R. Salas,
Secretary.

[FR Doc. E4-1379 Filed 6-18-04; 8:45 am]

BILLING CODE 6717-01-P